TENNESSEE VALLEY AUTHORITY

Sunshine Act Meeting

Agency Holding the Meeting: Tennessee Valley Authority (Meeting No. 1518).

Time and Date: 9 a.m. (CDT), April 19, 2000.

Place: Pontotoc Electric Power Association, Conference Room, 12 South Main Street, Pontotoc, Mississippi.

Status: Open.

Agenda

Approval of minutes of meeting held on March 29, 2000.

New Business

B—Purchase Award

B1. Contract with Merck-Medco Managed Care, L.L.C., for use of retail and mail pharmacy networks, claims/benefits management, and cost containment services.

C—Energy

C1. Contract with Holtec International, Inc., for design and construction of an independent spent fuel storage installation and dry cask storage system for Sequoyah Nuclear Plant.

C2. Supplement to Contract No. 99NNQ-251786-001 with Siemens Westinghouse to add rewinding the Browns Ferry Unit 2 main generator to the contract's scope.

C3. Contracts with Numanco, LLC; Canus Corporation; Westaff; and J. Givoo Consultants, Inc., for instrument mechanic services and with Numanco, LLC, for health physics personnel.

C4. Supplement to Contract No. 98P6D-195379 with General Electric Company for the manufacture and turnkey installation of eight 85-MW simple cycle dual fuel combustion turbine generating units for the year 2002 peaking power.

E—Real Property Transactions

E1. Abandonment of flowage easement rights above the 820-foot contour affecting approximately 0.5 acre of land in Montgomery Cove Subdivision on Fort Loudoun Reservoir in Knox County, Tennessee (Tract No. FL-215F).

E2. Modification of certain deed conditions affecting approximately 7 acres of former TVA land (Tract No. XNR-56) on Norris Reservoir in Campbell County, Tennessee, in exchange for 8 acres of shore land on Norris Reservoir (Tract No. NR-5474), difference in value, and administrative and shoreline restoration costs associated with this modification.

For more information: Please call TVA Public Relations at (423) 632-6000, Knoxville, Tennessee. Information is also available at TVA's Washington Office (202) 898-2999. People who plan to attend the meeting and have special needs should call (865) 632-6000.

Dated: April 12, 2000.
Edward S. Christenbury,
General Counsel and Secretary.

[FR Doc. 00-9642 Filed 4-13-00; 2:15 pm]

BILLING CODE 8120-08-M